ENVIRONMENTAL PROTECTION AGENCY

[ER-FRL-8996-5]

Environmental Impacts Statements; Notice of Availability

Responsible Agency: Office of Federal Activities, General Information (202) 564-1399 or http://www.epa.gov/compliance/nepa/.

Weekly Receipt of Environmental Impact Statements

Filed 04/11/2011 Through 04/15/2011 Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110120, Draft EIS, BLM, WY, Bighorn Basin Resource Management Revision Project, Implementation, Bighorn, Hot Springs, Park and Washakie Counties, WY, Comment Period Ends: 07/20/2011, Contact: Chris Carlton 307-775-6227.

EIS No. 20110121, Draft EIS, USA, CA, Presidio of Monterey Installation (POM) Project, To Implement the Real Property Master Plan, Monterey County, CA, Comment Period Ends: 06/06/2011, Contact: Michelle Royal 210-424-8331.

EIS No. 20110122, Draft EIS, FHWA, UT, Bangerter 600 West Project, Proposes Improvements to Address Projected Transportation Demand and Safety, Salt Lake County, UT, Comment Period Ends: 06/13/2011, Contact: Bryan Dillon 801-955-3517.

EIS No. 20110123, Final EIS, FHWA, MD, MD-3 Transportation Corridor Study, Address Existing and Projected Operational and Safety Issues, Along MD-3 from North of US-50 to South of MD-32, Funding, NPDES Permit and US Army COE Section 404 Permit, Anne Arundel and Prince George Counties, MD, Review Period Ends: 06/06/2011, Contact: Denise King 410—779-7145.

EIS No. 20110124, Final EIS, HUD, WA, Yesler Terrace Redevelopment Project, Proposed Redevelopment of Yesler Terrace to Create a Mixed Income, Mixed-Use-Residential Community on a 28 Acre Site, to Better Serve Existing and Future Residents, City of Seattle, WA, Review Period Ends: 05/23/2011, Contact: Dannette R. Smith 206-386-1001.

EIS No. 20110125, Draft Supplement, DOS, 00, Keystone XL Oil Pipeline Project, Additional Information, Presidential Permit for the Proposed Construction, Connection, Operation, and Maintenance of a Pipeline and Associated Facilities at the United States Border for Importation of Crude Oil from Canada, Comment Period Ends: 06/06/2011, Contact: Alexander Yuan 202-647-4284.

EIS No. 20110126, Draft Supplement, MMS, 00, Gulf of Mexico Outer Continental Shelf Oil and Gas Lease Sales: 2011 Western Planning Area Sales 218, TX,, Comment Period Ends: 06/06/2011, Contact: Gary Goeke 504-736-3233.

EIS No. 20110127, Final EIS, NRC, SC, Virgil C. Summer Nuclear Station Units 2 and 3, Application for Combined License to Construct and Operate a New Nuclear Reactors, Fairfield County, SC, Review Period Ends: 05/23/2011, Contact: Patricia Vokoun 301-415-3470.

Amended Notices

EIS No. 20110000, Final EIS, USFS, CA, Concow Hazardous Fuels Reduction Project, Propose to Reduce Hazardous Forest Fuels, Plus Establish and Maintain Spaces—Defensible Fuel Profile Zones (DFPZs), Feather River Ranger District, Plumas National Forest, Towns of Paradise, Magalia, Concow, Butte County, CA, Review Period Ends: 05/23/2011, Contact: Carol Spinos 530-532-8932.

Revision to FR Notice Published 01/14/2011: Reestablishing the Review Period, because Non-Distribution of EIS.

Dated: April 19, 2011.
Robert W. Hargrove,
Director, NEPA Compliance Division, Office of Federal Activities.

[FR Doc. 2011-9850 Filed 4-21-11; 8:45 am]

BILLING CODE 6560-50-P